DEPARTMENT OF ENERGY

Federal Energy Regulatory Commission

[Docket Nos. ER02-250-000, ER02-527-000 and ER02-479-000]

California Independent System Operator Corporation and Pacific Gas and Electric Company; Notice of Filings

October 15, 2002.

Take notice that on October 11, 2002, the California Independent System Operator Corporation (ISO) tendered for filing a Joint Motion to Adjust Interim Settlement Rates and a Request to Shorten the Time Period for Answers to the motion.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Comment Date: October 25, 2002.

Magalie R. Salas,
Secretary.

[FR Doc. 02-26804 Filed 10-21-02; 8:45 am]

BILLING CODE 6717-01-P